DEPARTMENT OF THE INTERIOR

Fish and Wildlife Service

[Docket No. FWS-R1-ES-2019-0091; FXES11140100000-190-FF01E00000]

Draft Environmental Impact Statement and Draft Habitat Conservation Plan; Receipt of Applications for Incidental Take Permits; Klamath, Deschutes, Jefferson, Crook, Wasco, and Sherman Counties, Oregon

Correction

In notice document 2019-21631, appearing on pages 53164 through 53167, in the issue of Friday, October 4, 2019 make the following corrections:

1. On page 53165, in the first column, in the DATES section, on the thirteenth line, “6 a.m. to 8 p.m.” should read “6 to 8 p.m.”

2. On the same page, in the same column, in the same section, on the fifteenth line, “6 a.m. to 8 p.m.” should read “6 to 8 p.m.”

[FR Doc. C1-2019-21631 Filed 10-21-19; 8:45 am]

BILLING CODE 1300-01-D